DEPARTMENT OF ENERGY

Federal Energy Regulatory Commission

Combined Notice of Filings #1

July 24, 2007.

Take notice that the Commission received the following electric corporate filings:

Docket Numbers: EC07-115-000.

Applicants: Iberdrola Energias Renovables S.A.U.

Description: Iberdrola Energias Renovables SAU submits a supplement to its application submitted on 7/13/07 and seeks to clarify transfers of facilities.

Filed Date: 07/17/2007.

Accession Number: 20070720-0011.

Comment Date: 5 p.m. Eastern Time on Friday, August 3, 2007.

Take notice that the Commission received the following exempt wholesale generator filings:

Docket Numbers: EG07-73-000.

Applicants: Airtricity Munnsville Wind Farm, LLC.

Description: Airtricity Munnsville Wind Farm, LLC submits a Notice of Self-Certification of Exempt Wholesale Generator Status pursuant to Section 366.7(a) of FERC's Regulations.

Filed Date: 07/17/2007.

Accession Number: 20070719-0069.

Comment Date: 5 p.m. Eastern Time on Tuesday, August 7, 2007.

Docket Numbers: EG07-74-000.

Applicants: CPV Liberty, LLC.

Description: Notice of Self-Certification of Exempt Wholesale Generator Status of CPV Liberty, LLC.

Filed Date: 07/23/2007.

Accession Number: 20070723-5022.

Comment Date: 5 p.m. Eastern Time on Monday, August 13, 2007.

Take notice that the Commission received the following electric rate filings:

Docket Numbers: ER01-3001-018; ER03-647-010.

Applicants: New York Independent System Operator, Inc.

Description: New York Independent System Operator, Inc. submits its report pursuant to the Commission's 5/18/07 Order.

Filed Date: 07/18/2007.

Accession Number: 20070717-5061.

Comment Date: 5 p.m. Eastern Time on Wednesday, August 8, 2007.

Docket Numbers: ER05-163-006.

Applicants: Milford Power Company, LLC; ISO New England Inc.; Connecticut Office of Consumer Counsel.

Description: Compliance filing pursuant to Commission's 5/18/07, 4/19/06, and 10/27/06 Orders.

Filed Date: 07/18/2007.

Accession Number: 20070719-0052.

Comment Date: 5 p.m. Eastern Time on Wednesday, August 8, 2007.

Docket Numbers: ER07-879-001.

Applicants: Louisville Gas & Electric Company; Kentucky Utilities Company.

Description: Compliance Refund Report of Louisville Gas and Electric Co. and Kentucky Utilities Company.

Filed Date: 07/23/2007.

Accession Number: 20070723-5004.

Comment Date: 5 p.m. Eastern Time on Monday, August 13, 2007.

Docket Numbers: ER07-1150-000.

Applicants: Dynegy South Bay, LLC.

Description: Dynegy South Bay, LLC submits First Revised Sheet 131 to its Reliability Must-Run Agreement w/ California Independent System Operator Corporation to correct a typographical error.

Filed Date: 07/17/2007.

Accession Number: 20070718-0118.

Comment Date: 5 p.m. Eastern Time on Tuesday, August 7, 2007.

Docket Numbers: ER07-1151-000.

Applicants: NSTAR Electric Company.

Description: NSTAR Electric Company submits a Wholesale Distribution Service Agreement for service to its affiliate, MATEP LLC.

Filed Date: 07/17/2007.

Accession Number: 20070718-0119.

Comment Date: 5 p.m. Eastern Time on Tuesday, August 7, 2007.

Docket Numbers: ER07-1152-000.

Applicants: Wisconsin Public Service Corporation.

Description: Wisconsin Public Service Corp submits Service Agreement—Rate Schedule 51, dated 7/16/07 with the City of Marshfield, WI.

Filed Date: 07/17/2007.

Accession Number: 20070719-0071.

Comment Date: 5 p.m. Eastern Time on Tuesday, August 7, 2007.

Docket Numbers: ER07-1153-000.

Applicants: American Electric Power Service Corporation.

Description: American Electric Power Service Corporation on behalf of Ohio Power Company submits a Notice of Cancellation of Original Service Agreement 327 under its Open Access Transmission Tariff etc.

Filed Date: 07/17/2007.

Accession Number: 20070719-0053.

Comment Date: 5 p.m. Eastern Time on Tuesday, August 7, 2007.

Docket Numbers: ER07-1154-000.

Applicants: California Independent System Operator Corporation.

Description: California Independent System Operator Corporation submits its Notice of Termination of the Dynamic Scheduling Agreement for Scheduling Coordinators with Mirant Energy Trading LLC.

Filed Date: 07/17/2007.

Accession Number: 20070719-0054.

Comment Date: 5 p.m. Eastern Time on Tuesday, August 7, 2007.

Docket Numbers: ER07-1155-000.

Applicants: Midwest Independent Transmission System Operator, Inc.

Description: Midwest Independent Transmission System Operator, Inc. submits a Large Generator Interconnection Agreement with Benton County Wind Farm LLC et al., as Service Agreement 1849 to FERC Electric Tariff, 3rd Rev Vol 1.

Filed Date: 07/18/2007.

Accession Number: 20070719-0068.

Comment Date: 5 p.m. Eastern Time on Wednesday, August 8, 2007.

Docket Numbers: ER07-1156-000.

Applicants: PacifiCorp.

Description: PacifiCorp submits jurisdictional agreements re Long-Term Firm Point-to-Point Transmission Service et ac with Weyerhaeuser Co et al.

Filed Date: 07/18/2007.

Accession Number: 20070719-0084.

Comment Date: 5 p.m. Eastern Time on Wednesday, August 8, 2007.

Docket Numbers: ER07-1157-000.

Applicants: Logan Wind Energy LLC.

Description: Request for authorization to sell energy and capacity at market-based rates and waiver of the 60 day notice requirement.

Filed Date: 07/18/2007.

Accession Number: 20070719-0085.

Comment Date: 5 p.m. Eastern Time on Wednesday, August 8, 2007.

Docket Numbers: ER07-1158-000.

Applicants: American Electric Power Service Corporation.

Description: AEP Texas North Company submits a fully executed Amended and Restated Interconnection Agreement with Buffalo Gap Wind Farm 3 LLC.

Filed Date: 07/18/2007.

Accession Number: 20070719-0086.

Comment Date: 5 p.m. Eastern Time on Wednesday, August 8, 2007.

Docket Numbers: ER07-1159-000.

Applicants: American Electric Power Service Corporation.

Description: American Electric Power Service Corp on behalf of the AEP Operating Companies submits an Interconnection and Local Delivery Service Agreement with the City of St Mary's, Ohio.

Filed Date: 07/18/2007.

Accession Number: 20070719-0087.

Comment Date: 5 p.m. Eastern Time on Wednesday, August 8, 2007.

Docket Numbers: ER07-1160-000.

Applicants: Duke Energy Carolinas, LLC.

Description: Duke Energy Carolinas, LLC submits the First Amended and Restated Partial Requirements Service Agreement with Rutherford Electric Membership Corp, dated as of 5/1/07 pursuant to Section 205 of the Federal Power Act.

Filed Date: 07/18/2007.

Accession Number: 20070720-0018.

Comment Date: 5 p.m. Eastern Time on Wednesday, August 8, 2007.

Docket Numbers: ER07-1161-000.

Applicants: Public Power & Utility, Inc.

Description: Public Power & Utility, Inc submits a petition for acceptance of initial tariff, waivers & blanket authority pursuant to Section 205 of the Federal Power Act.

Filed Date: 07/18/2007.

Accession Number: 20070720-0037.

Comment Date: 5 p.m. Eastern Time on Wednesday, August 8, 2007.

Take notice that the Commission received the following electric securities filings:

Docket Numbers: ES07-46-000; ES07-47-000; ES07-48-000.

Applicants: PSEG Nuclear LLC; PSEG Fossil LLC; PSEG Energy Resources & Trade LLC.

Description: Application of PSEG Fossil LLC, PSEG Nuclear LLC and PSEG Energy Resources & Trade LLC for Approval of Corporate Guarantees.

Filed Date: 07/19/2007.

Accession Number: 20070719-5048.

Comment Date: 5 p.m. Eastern Time on Thursday, August 9, 2007.

Take notice that the Commission received the following open access transmission tariff filings:

Docket Numbers: OA07-19-001; OA07-43-001.

Applicants: Arizona Public Service Company.

Description: Arizona Public Service Company submits an errata to the Section 206 compliance filing, containing Substitute Original Sheets 8-9, 102-104 in compliance with FERC's 7/13/07 Order.

Filed Date: 07/18/2007.

Accession Number: 20070720-0036.

Comment Date: 5 p.m. Eastern Time on Wednesday, August 8, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-14796 Filed 7-30-07; 8:45 am]

BILLING CODE 6717-01-P